DEPARTMENT OF JUSTICE

Notice of Lodging of Consent Decree Under the Clean Air Act (CAA)

In accordance with Seciton 113(g) of the CAA, 42 U.S.C. 7413(g), and 28 CFR 50.7, notice is hereby given that on April 26, 2007, the proposed Consent Decree in United States v. Rhodia Inc., Civil Action No. 2:07CV134 WL, was lodged with the United States District Court for the Northern District of Indiana.

In this action, the United States asserts claims against Rhodia Inc. (Rhodia) under Sections 42 U.S.C. 7475-7477 and 7503, and 42 U.S.C. 7411 of the Clean Air Act (the Act) relating to violations of the New Source Review permitting and control technology requirements, as well as the New Source Performance Standards at six Rhodia sulfuric acid plans in Hammond, Indiana; Baytown and Houston, Texas; Martinez and Dominguez, California; and Baton Rouge, Louisiana.

The Consent Decree requires Rhodia to pay a civil penalty of $2,000,000 of which $1,000,000 will be paid to the United States and the rest will be divided amongst the City of Hammond, Indiana; the State of Indiana; the State of Louisiana; and the Bay Area Air Quality Management District of California. The Consent Decree further requires Rhodia to meet certain emission limits for sulfur dioxide and acid mist, and to comply with the NSPS, Subpart H requirements, including performance testing and monitoring.

For a period of thirty (30) days from the date of this publication, the Department of Justice will receive comments relating to the proposed Consent Decree. Comments should be addressed to the Assistant Attorney General, Environment and National Resources Division, and either e-mailed to pubcomment-ees.enrd@usdoj.gov or mailed to P.O. Box 7611, U.S. Department of Justice, Washington, DC 20044-7611, and should refer to United States v. Rhodia Inc., D.J. Ref. 90-5-2-1-08500.

The proposed Consent Decree may be examined at the Office of the United States Attorney, 5400 Federal Plaza, Suite 1500, Hammond, IN 46230, and at U.S. EPA Region V, 77 W. Jackson Blvd., Chicago, IL 60604. During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $29.00 (25 cents per page reproduction cost) payable to the “U.S. Treasury” or, if by e mail or fax, forward a check in that amount to the Consent Decree Library at the stated address.

William D. Brighton,
Assistant Section Chief, Environmental Enforcement Section, Environment and Natural Resources Division.

[FR Doc. 07-2162 Filed 5-2-07; 8:45 am]

BILLING CODE 4410-15-M